ENVIRONMENTAL PROTECTION AGENCY

40 CFR Part 52

[EPA-R03-OAR-2012-0272; FRL-9702-5]

Approval and Promulgation of Air Quality Implementation Plans; Maryland; Control of Iron and Steel Production Installations; Sintering Plants

AGENCY: Environmental Protection Agency (EPA).

ACTION: Proposed rule.

SUMMARY: EPA proposes to approve revisions to the Maryland State Implementation Plan (SIP) submitted by the Maryland Department of the Environment (MDE) on June 30, 2009. The revisions amend the visible emissions requirements of the Maryland SIP's regulation for the Control of Iron and Steel Production Installations as they apply to sintering plants. The sintering plant located at the Sparrows Point steelmaking facility (Sparrows Point) is the only sintering plant located in the State of Maryland, and therefore the only source affected by these SIP revisions. The revisions exempt the sintering plant from the visible emissions section of the regulation for the Control of Iron and Steel Production Installations contingent upon the source's two wet scrubbers, used to control emissions of particulate matter, continuously monitoring compliance with specified pressure drop and flow rate operating parameters. EPA is approving these revisions because they provide for a continuous means of determining compliance with the applicable SIP emission rate for particulate matter from the sintering plant located at Sparrows Point, and because that emission rate has been demonstrated to protect and maintain the National Ambient Air Quality Standards (NAAQS) for PM10 (particulate matter consisting of particles with an aerodynamic diameter less than or equal to 10 micrometers). EPA is proposing to approve these revisions in accordance with the requirements of the Clean Air Act (CAA). In the Final Rules section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by August 27, 2012.

ADDRESSES: Submit your comments, identified by Docket ID Number EPA-R03-OAR-2012-0272 by one of the following methods:

A. www.regulations.gov. Follow the on-line instructions for submitting comments.

B. Email: spink.marcia@epa.gov.

C. Mail: EPA-R03-OAR-2012-0272, Marcia L. Spink, Associate Director for Policy & Science, Air Protection Division, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2012-0272. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Marcia L. Spink, Associate Director for Policy & Science, Air Protection Division (215) 814-2104, or by email at spink.marcia@epa.gov.

SUPPLEMENTARY INFORMATION: For further information, please see the information provided in the direct final action, with the same title, that is located in the “Rules and Regulations” section of this Federal Register publication.

Dated: July 10, 2012.
W.C. Early
Acting Regional Administrator, Region III.

[FR Doc. 2012-18099 Filed 7-26-12; 8:45 am]

BILLING CODE 6560-50-P